COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be furnished by nonprofit agencies employing persons who are blind or have other severe disabilities, and deletes services from the Procurement List previously furnished by such agencies.

DATES: Date added to and deleted from the Procurement List: September 01, 2019.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 5/24/2019 and 5/31/2019, the Committee for Purchase From People Who Are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 8501-8506) in connection with the services proposed for addition to the Procurement List.

End of Certification

Accordingly, the following services are added to the Procurement List:

Services

Service Type: Facility Support Investment

Mandatory for: US Navy, Naval Facilities Engineering Command Northwest, Multiple Locations, Silverdale, WA

Mandatory Source of Supply: Skookum Educational Programs, Bremerton, WA

Contracting Activity: DEPT OF THE NAVY, NAVFAC NORTHWEST

Service Type: Verbatim Transcription Service

Mandatory for: NAVSUP FLC Norfolk Philadelphia Office, CNIC, Washington DC

Mandatory Source of Supply: Lighthouse for the Blind of Houston, Houston, TX

Contracting Activity: DEPT OF THE NAVY, NAVSUP FLT LOG CTR NORFOLK

Deletions

On 6/28/2019, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Janitorial/Custodial & Laundry Service

Mandatory for: National Defense University: Fort McNair, Health Fitness, Washington, DC

Mandatory Source of Supply: ServiceSource, Inc., Oakton, VA

Contracting Activity: DEPT OF THE ARMY, W37W USA ELE NATL DEF UNIV

Service Type: Janitorial/Custodial

Mandatory for: Fort Shafter: Buildings 344 and 1507, Fort Shafter, HI

Mandatory for: Schofield Barracks: Buildings 690, 692 and 1087, Fort Shafter, HI

Mandatory Source of Supply: Network Enterprises, Inc., Honolulu, HI

Contracting Activity: DEPT OF THE ARMY, W40M RHCO-ATLANTIC USAHCA

Service Type: Janitorial Services

Mandatory for: Muskogee Armed Force Reserve Center, Muskogee, OK

Mandatory Source of Supply: Golden Rule Industries of Muskogee, Inc., Muskogee, OK

Contracting Activity: DEPT OF THE ARMY, W7NV USPFO ACTIVITY OK ARNG

Service Type: Custodial service

Mandatory for: USMA, Warrior Transition Unit Bldg #624, West Point, NY

Mandatory Source of Supply: Access: Supports for Living Inc., Middletown, NY

Contracting Activity: DEPT OF THE ARMY, W6QM MICC-WEST POINT

Service Type: Janitorial/Custodial

Mandatory for: Lewisville Lake Park, Lewisville, TX

Mandatory Source of Supply: Goodwill Industries of Dallas, Inc.—Deleted, Dallas, TX

Contracting Activity: DEPT OF THE ARMY, W40M RHCO-ATLANTIC USAHCA

Service Type: Warehousing

Mandatory for: U.S. Army Logistics Management College (ALMC), Fort Lee, VA

Mandatory Source of Supply: SOAR 365, Richmond, VA

Contracting Activity: DEPT OF THE ARMY, W40M RHCO-ATLANTIC USAHCA

Service Type: Grounds Maintenance

Mandatory for: Veterans Affairs Medical Center: 1601 Perdido Street, New Orleans, LA

Mandatory Source of Supply: Goodworks, Inc., New Orleans, LA

Contracting Activity: VETERANS AFFAIRS, DEPARTMENT OF, NAC

Service Type: Food Service

Mandatory for: Fort Lee, Fort Lee, VA

Mandatory Source of Supply: VersAbility Resources, Inc., Hampton, VA

Contracting Activity: DEPT OF THE ARMY, W40M RHCO-ATLANTIC USAHCA

Service Type: Document Destruction Services

Mandatory for: Dallas Finance Center—Dept of Homeland Security (ICE), 1460 Prudential Drive, Dallas, TX 75235

Mandatory Source of Supply: Expanco, Inc., Fort Worth, TX

Contracting Activity: U.S. IMMIGRATION AND CUSTOMS ENFORCEMENT, MISSION SUPPORT DALLAS

Service Type: Laundry Service

Mandatory for: Federal Bureau of Prisons, FMC Carswell, J Street, Building 3000, Fort Worth, TX

Mandatory Source of Supply: Goodwill Industrial Services of Fort Worth, Inc., Fort Worth, TX

Contracting Activity: FEDERAL PRISON SYSTEM, CARSWELL, FMC

Service Type: Janitorial/Custodial

Mandatory for: U.S. Fish & Wildlife Service: Santa Ana National Wildlife Refuge, Alamo, TX

Mandatory Source of Supply: Training, Rehabilitation, & Development Institute, Inc., San Antonio, TX

Contracting Activity: OFFICE OF POLICY, MANAGEMENT, AND BUDGET, NBC ACQUISITION SERVICES DIVISION

Service Type: Housekeeping Services

Mandatory for: Veterans Affairs Medical Center, Clarksburg, WV

Mandatory Source of Supply: Job Squad, Inc., Bridgeport, WV

Contracting Activity: VETERANS AFFAIRS, DEPARTMENT OF, NAC

Service Type: Janitorial/Custodial

Mandatory for: Minnesota Valley National Wildlife Refuge: Visitors Center, Bloomington, MN

Mandatory Source of Supply: AccessAbility, Inc., Minneapolis, MN

Contracting Activity: OFFICE OF POLICY, MANAGEMENT, AND BUDGET, NBC ACQUISITION SERVICES DIVISION

Michael R. Jurkowski,
Deputy Director, Business & PL Operations.

[FR Doc. 2019-16531 Filed 8-1-19; 8:45 am]

BILLING CODE 6353-01-P